AGENCY FOR INTERNATIONAL DEVELOPMENT

Notice of Public Information Collection Requirements Submitted to OMB for Review

SUMMARY: U.S. Agency for International Development (USAID) has submitted the following information collections to OMB for review and clearance under the Paperwork Reduction Act of 1995, Public Law 104-13. Comments regarding this information collection are best assured of having their full effect if received within 30 days of this notification. Comments should be sent via e-mail to David_Rostker@omb.eop.gov or fax to 202-395-7285. Copies of submissions may be obtained by calling (202) 712-1365.

SUPPLEMENTARY INFORMATION: OMB Number: OMB 0412-0562.

Form Number: AID 1570-13.

Title: Narrative/Time-Line Report.

Type of Submission: Renewal of Information Collection.

Purpose: This collection is a management and monitoring report used by the Bureau for Democracy, Conflict and Humanitarian Assistance, Office of American Schools and Hospitals Abroad. The collection will ascertain that grant financed programs meet authorized objectives within the terms of agreements between its office and the recipients, which are United States Organizations that sponsor overseas institutions.

Annual Reporting Burden:

Respondents: 120.

Total annual responses: 480.

Total annual hours requested: 960 hours.

Dated: December 13, 2007.
Joanne Paskar,
Chief, Information and Records Division, Office of Administrative Services, Bureau for Management.

[FR Doc. 07-6115 Filed 12-19-07; 8:45 am]

BILLING CODE 6116-01-M